DEPARTMENT OF DEFENSE

Office of the Secretary

[Docket ID: DOD-2009-OS-0177]

Privacy Act of 1974; Systems of Records

AGENCY: National Security Agency/Central Security Service, DoD.

ACTION: Notice to amend a systems of records.

SUMMARY: The National Security Agency (NSA) is proposing to amend a systems of records notices in its inventory of record systems subject to the Privacy Act of 1974, (5 U.S.C. 552a), as amended.

DATES: This proposed action will be effective without further notice on January 4, 2010 unless comments are received which would result in a contrary determination.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: Ms. Anne Hill at (301) 688-6527.

SUPPLEMENTARY INFORMATION: The National Security Agency's systems of notices subject to the Privacy Act of 1974 (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: December 1, 2009.
Mitchell S. Bryman,
Alternate OSD Federal Register Liaison Officer, Department of Defense.

GNSA 19

System Name:

NSA/CSS Child Development Services (May 15, 2002; 67 FR 34689).

Changes:

* * * * *

Authority for maintenance of the system:

Delete entry and replace with “5 U.S.C. 301, Departmental Regulations; DoD Instruction 6060.2, Child Development Programs; and E.O. 9397 (SSN), as amended.”

* * * * *

System manager(s) and address:

Delete entry and replace with “Contracting Officer's Representative for Children's World Learning Center, National Security Agency/Central Security Service, Ft. George G. Meade, MD 20755-6000.”

Notification procedure:

Delete entry and replace with “Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.”

Record access procedures:

Delete entry and replace with “Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.”

Contesting record procedures:

Delete entry and replace with “The NSA/CSS rules for contesting contents and appealing initial determinations are published at 32 CFR part 322 or may be obtained by written request addressed to the National Security Agency/Central Security Service, Freedom of Information Act/Privacy Act Office, 9800 Savage Road, Ft. George G. Meade, MD 20755-6000.”

* * * * *

GNSA 19

System name:

NSA/CSS Child Development Services.

System location:

National Security Agency/Central Security Service, Ft. George G. Meade, MD 20755-6000.

Categories of individuals covered by the system:

Children and their sponsors (NSA/CSS civilian employees, military assignees, non-appropriated fund instrumentality (NAFI) personnel, employees of other Federal agencies, and contractor employees); and individual day care providers at the NSA/CSS day care facility.

Categories of records in the system:

Records kept on the child include: Enrollment information and attendance records; medical care authorizations; names of family members; preferred activities and foods; photos; emergency forms and release authorizations; child care information as reported by the sponsor; physical health information, including allergies; custody paperwork (if applicable); special needs instructions; progress and report cards; and incident reports of injuries.

Records kept on the sponsor include: Sponsor's name, grade or rank; Social Security Number; home and work addresses; home and work telephone numbers; contact information; employment affiliation (civilian, military, other, etc.); application identification number; photos; and comments/remarks related to the sponsor's status on the waiting list. Similar information is kept on other family members, as provided by the sponsor.

Records kept on day care providers and other contractors include: Name; home and work addresses; home, cellular, and work telephone numbers; e-mail addresses; citizenship; date and place of birth; Social Security Number; physical characteristics; military service records; previous employment/duty/volunteer experience; results of local and national security/police file checks; drug, alcohol use, and mental health information; and vendor employment application forms, which include references, automobile operator's and educational information.

Authority for maintenance of the system:

5 U.S.C. 301, Departmental Regulations; DoD Instruction 6060.2, Child Development Programs; and E.O. 9397 (SSN), as amended.

Purpose(s):

To develop childcare programs that meet the needs of NSS/CSS employees and their families; provide child and family program eligibility and background information; record consent for access to emergency medical care and information. Information may also be used to verify health status of children, verify immunizations, note special program requirements, compliance with USDA food standards. Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The ‘DoD Blanket Routine Uses’ set forth at the beginning of the NSA/CSS' compilation of systems of records notices apply to this system.

Policies and practices for storing, retrieving, accessing, retaining, and disposing of records in the system:

Storage:

Records are maintained in paper files and on electronic mediums.

Retrievability:

By parent or child's name, and Social Security Number (SSN).

Safeguards:

The NSA/CSS Fort Meade facility is secured by a series of guarded pedestrian gates and checkpoints. Access to the facility is limited to security cleared personnel and escorted visitors only. Within the facility itself, access to paper and computer printouts is controlled by limited-access facilities and lockable containers. Access to electronic mediums is controlled by computer password protection.

Retention and disposal:

Disposition pending (until NARA has approved a retention and disposal schedule for these records, the records will be treated as permanent).

System manager(s) and address:

Contracting Officer's Representative for Children's World Learning Center, National Security Agency/Central Security Service, Ft. George G. Meade, MD 20755-6000.

Notification procedure:

Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.

Record access procedures:

Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.

Contesting record procedures:

The NSA/CSS rules for contesting contents and appealing initial determinations are published at 32 CFR part 322 or may be obtained by written request addressed to the National Security Agency/Central Security Service, Freedom of Information Act/Privacy Act Office, 9800 Savage Road, Ft. George G. Meade, MD 20755-6000.

Record source categories:

Individuals themselves; parents or guardians of individuals enrolled in day care programs; NSA personnel; medical providers who have provided information about family members needing or receiving care; and contractor personnel and/or teachers.

Exemptions claimed for the system:

None.

[FR Doc. E9-28978 Filed 12-3-09; 8:45 am]

BILLING CODE 5001-06-P